DEPARTMENT OF THE INTERIOR

Bureau of Land Management

[LLORE00000 L63500000.DO0000.LXSS021H0000.HAG11-0203]

Notice of Intent to prepare a Resource Management Plan for the West Eugene Wetlands Planning Area in the State of Oregon and Associated Environmental Impact Statement

AGENCY: Bureau of Land Management, Interior.

ACTION: Notice of Intent.

SUMMARY: In compliance with the National Environmental Policy Act of 1969, as amended, and the Federal Land Policy and Management Act of 1976, as amended, the Bureau of Land Management (BLM) Eugene District Office, Eugene, Oregon, intends to prepare a Resource Management Plan (RMP) with an associated Environmental Impact Statement (EIS) for the West Eugene Wetlands Planning Area and by this notice is announcing the beginning of the scoping process to solicit public comments and identify issues. The West Eugene Wetlands Planning Area comprises approximately 1,340 acres of acquired lands that do not have an existing RMP.

DATES: This notice initiates the public scoping process for the RMP with associated EIS. Comments on issues may be submitted in writing until July 8, 2011. The date(s) and location(s) of any scoping meetings will be announced at least 15 days in advance through local media, newspapers and the BLM Web site at: http://www.blm.gov/or/districts/eugene/index.php. In order to be included in the Draft EIS, all comments must be received prior to the close of the 30-day scoping period or 30 days after the last public meeting, whichever is later. We will provide additional opportunities for public participation upon publication of the Draft EIS.

ADDRESSES: You may submit comments on issues and planning criteria related to the West Eugene Wetlands RMP/EIS by any of the following methods:

• Web site: http://www.blm.gov/or/districts/eugene/index.php.

• E-mail: OR_Eugene_Mail@blm.gov.

• Fax: 541-683-6981.

• Mail: P.O. Box 10226, Eugene, Oregon 97440-2226.

Documents pertinent to this proposal may be examined at the Eugene District Office, 3106 Pierce Parkway, Springfield, Oregon 97477.

FOR FURTHER INFORMATION CONTACT: For further information and/or to have your name added to our mailing list, contact Richard Hardt, Planning and Environmental Coordinator, telephone 541-683-6690; address P.O. Box 10226, Eugene, Oregon 97440-2226; e-mail OR_Eugene_Mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM District Office, Eugene, Oregon, intends to prepare an RMP with an associated EIS for the West Eugene Wetlands Planning Area, announces the beginning of the scoping process, and seeks public input on issues and planning criteria. The planning area is located in Lane County, Oregon, and encompasses approximately 1,340 acres of public land. The purpose of the public scoping process is to determine relevant issues that will influence the scope of the environmental analysis, including alternatives, and guide the planning process. Preliminary issues for the planning area have been identified by BLM personnel; Federal, State, and local agencies; and other stakeholders. The issues include: Threatened and endangered species management; ecosystem restoration; control of noxious weeds and invasive plants; recreation; tribal use including plant collection; evaluation of potential new Areas of Critical Environmental Concern (ACEC) and reevaluation of the existing Long Tom ACEC; land tenure adjustments; and the costs of management. Preliminary planning criteria include:

1. Lands addressed in the RMP will be public lands (including split-estate lands) managed by the BLM. There will be no decisions in the RMP for lands not managed by the BLM;

2. The BLM will protect resources in accordance with the Federal Land Policy and Management Act of 1976, as amended (43 U.S.C. 1701 et seq.), and other applicable laws and regulations;

3. The BLM will use a collaborative and multi-jurisdictional approach, when practical, to determine the desired future condition of public lands;

4. The BLM will strive to make land use plan decisions compatible with existing plans and policies of adjacent local, State, Federal, and tribal agencies, and consistent with other applicable laws and regulations governing the administration of public land;

5. Areas potentially suitable for ACECs and other special management designations will be identified and brought forward for analysis in the RMP. The existing Long Tom ACEC will be re-evaluated to determine if it should continue to be designated as an ACEC. Public nominations for areas potentially suitable for ACECs and other special management designations and public input on the re-evaluation of the existing Long Tom ACEC will be requested;

6. Decisions of the RMP will be consistent with the U.S. Fish and Wildlife Service Recovery Plan for the Prairie Species of Western Oregon and Southwestern Washington.

You may submit comments on issues and planning criteria in writing to the BLM at any public scoping meeting, or you may submit them to the BLM using one of the methods listed in the ADDRESSES section above. To be most helpful, you should submit comments by the close of the 30-day scoping period or within 30 days after the last public meeting, whichever is later. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Botany, Wildlife and Fisheries, Lands and Realty, Hydrology, Soils, Archeology, Recreation, Fire and Fuels Management, and Geographic Information Systems.

Authority: 40 CFR 1501.7, 43 CFR 1610.2.

Virginia Grilley,
Eugene District Manager.

[FR Doc. 2011-14086 Filed 6-7-11; 8:45 am]

BILLING CODE 4310-33-P